FEDERAL COMMUNICATIONS COMMISSION

Notice of Public Information Collection(s) Being Reviewed by the Federal Communications Commission, Comments Requested

February 13, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 4, 2001. If you anticipate that you will be submitting comments, but find it difficult to do so within the period of time allowed by this notice, you should advise the contact listed below as soon as possible.

ADDRESSES: Direct all comments to Les Smith, Federal Communications Commissions, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0970.

Title: Section 90.621(e)(2).

Form No.: N/A.

Type of Review: Extension of currently approved collection.

Respondents: Businesses or other for-profit; State, Local or Tribal Governments.

Number of Respondents: 1,000.

Estimated Time Per Response: .5 hour per response.

Total Annual Burden: 500 hours.

Total Annual Cost: None.

Needs and Uses: The information requested requires applicants proposing to modify operations to use channels for commercial purposes in certain frequency bands in 800 MHZ to provide written notice of the modification to all Public Safety licensees within 70 miles of the site of the channels for which the authorization for commercial use is sought that operate within 25 kHz of the center of those channels.

OMB Approval Number: 3060-xxxx.

Title: Sections 90.35(b)(2) & 90.175(b)(1).

Form No.: N/A.

Type of Review: New Collection.

Respondents: Businesses or other for-profit; State, Local or Tribal Governments.

Number of Respondents: 3,800.

Estimated Time Per Response: 1 hour per response.

Total Annual Burden: 3,800 hours.

Total Annual Cost: None.

Needs and Uses: The information requested requires applicants proposing to operate a land mobile radio station that have service contours that overlap an existing land mobile station obtain written concurrence of the frequency coordinator associated with the industry for which the existing station license was issued, or the written concurrence of the licensee of the existing station.

OMB Approval Number: 3060-xxxx.

Title: Standards for Co-channel and Adjacent Channel Interference in the Land Mobile Radio Services.

Form No.: N/A.

Type of Review: New Collection.

Respondents: Businesses or other for-profit;.

Number of Respondents: 19.

Estimated Time Per Response: 40 hour per response.

Total Annual Burden: 760 hours.

Total Annual Cost: None.

Needs and Uses: The information requested requires frequency coordinators to arrive at consensus standards for co-channel and adjacent channel interference and to report these standards to the Commission. This represents a one-time effort on the part of the frequency coordinators.

Federal Communications Commission.
Magalie Roman Salas,
Secretary.

[FR Doc. 01-4211 Filed 3-2-01; 8:45 am]

BILLING CODE 6712-01-U